DEPARTMENT OF COMMERCE

National Oceanic and Atmospheric Administration

RIN 0648-XU76

Fisheries of the South Atlantic and the Gulf of Mexico; Southeast Data, Assessment, and Review (SEDAR); spiny lobster.

AGENCY: National Marine Fisheries Service (NMFS), National Oceanic and Atmospheric Administration (NOAA), Commerce.

ACTION: Modification to schedule, location, and contact information for SEDAR Webinars and Workshop for South Atlantic and Gulf of Mexico spiny lobster.

SUMMARY: This notice updates information relative to the SEDAR update assessment of the South Atlantic and Gulf of Mexico stock of spiny lobster. This update will consist of a series of webinars and an Update Workshop. This assessment will update the stock assessment conducted under SEDAR 8. See SUPPLEMENTARY INFORMATION. The original notice published in the Federal Register on March 2, 2010, 75 FR 9397.

DATES: The Data Webinar occurred on March 23, 2010. Assessment Update Webinars will occur on June 30, and August 17, 2010. The Update Workshop will take place September 28-30, 2010. See SUPPLEMENTARY INFORMATION.

ADDRESSES: The Webinars may be attended by the public. Those interested in participating should contact Julie A Neer at SEDAR. See FOR FURTHER INFORMATION CONTACT to request an invitation providing webinar access information.

The Update Workshop will be held at the Key West Marriott Beachside Hotel, 3841 N. Roosevelt Blvd, Key West, Florida 33040; telephone: (305) 296-8100.

FOR FURTHER INFORMATION CONTACT: Julie A Neer, SEDAR Coordinator, 4055 Faber Place Drive, Suite 201, North Charleston, SC 29405; telephone: (843) 571-4366; email: julie.neer@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. A full benchmark assessment conducted under SEDAR includes three workshops: (1) Data Workshop, (2) Stock Assessment Workshop Process and (3) Review Workshop. The product of the Data Workshop is a data report which compiles and evaluates potential datasets and recommends which datasets are appropriate for assessment analyses. The product of the Stock Assessment Workshop is a stock assessment report which describes the fisheries, evaluates the status of the stock, estimates biological benchmarks, projects future population conditions, and recommends research and monitoring needs. The assessment is independently peer reviewed at the Review Workshop. The product of the Review Workshop is a Review Workshop Report documenting Panel opinions regarding the strengths and weaknesses of the stock assessment and input data. Participants for SEDAR Workshops are appointed by the Gulf of Mexico, South Atlantic, and Caribbean Fishery Management Councils and NOAA Fisheries Southeast Regional Office and Southeast Fisheries Science Center. Participants include data collectors and database managers; stock assessment scientists, biologists, and researchers; constituency representatives including fishermen, environmentalists, and NGO's; international experts; and staff of Councils, Commissions, and state and federal agencies.

SEDAR conducts updates of benchmark stock assessments previously conducted through the SEDAR program. Update assessments add additional data points to datasets incorporated in the original SEDAR benchmark assessment and run the benchmark assessment model to update population estimates. The spiny lobster update assessment will update the SEDAR 8 benchmark of Southeastern United States spiny lobster, which included both the South Atlantic and Gulf of Mexico. The update process consists of a series of webinars and an update workshop.

Spiny Lobster Update Process Schedule:

New Dates for the SEDAR assessment webinars: June 30 and August 17, 2010, 1 p.m. - 4 p.m.

Using updated datasets adopted during the Data Webinar, participants will employ assessment models used in SEDAR 8 to evaluate stock status, estimate population benchmarks and management criteria, and project future conditions. Participants will recommend the most appropriate methods and configurations for determining stock status and estimating population parameters.

New Dates for the SEDAR Spiny Lobster Update Workshop: September 28-30, 2010

September 28 and 29, 2010: 9 p.m. - 6 p.m.; September 30, 2010: 8 a.m. - 12 p.m.

During the Update Workshop assessment analysts will discuss and evaluate decisions made during the Data and Assessment Webinars. Participants will compare and contrast various assessment approaches, and determine whether the assessments are adequate for submission to Science and Statistics Committees of the South Atlantic Fishery Management Council and the Gulf of Mexico Fishery Management Council. Workshop panelists will document their findings and recommendations in an Assessment Workshop Report.

Although non-emergency issues not contained in this agenda may come before these groups for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

The Update Workshop is physically accessible to people with disabilities. Requests for sign language interpretation or other auxiliary aids should be directed to the Council office (see ADDRESSES) at least 10 business days prior to the workshop.

Dated: May 18, 2010.
Tracey L. Thompson,
Acting Director, Office of Sustainable Fisheries, National Marine Fisheries Service.

[FR Doc. 2010-12311 Filed 5-20-10; 8:45 am]

BILLING CODE 3510-22-S